NUCLEAR REGULATORY COMMISSION

[Docket No. 52-043; NRC-2014-0149]

Early Site Permit for the PSEG Site

AGENCY: Nuclear Regulatory Commission.

ACTION: Draft environmental impact statement, notice of availability; public meeting and request for comment.

SUMMARY: Notice is hereby given that the U.S. Nuclear Regulatory Commission (NRC) and the U.S. Army Corps of Engineers (USACE or Corps), Philadelphia District, are issuing for public comment NUREG-2168, “Draft Environmental Impact Statement for the Early Site Permit (ESP) for the PSEG Site.” The site is located in Salem County, New Jersey.

DATES: Submit comments by November 6, 2014. Comments received after this date will be considered if it is practical to do so, but the Commission is able to assure consideration only for comments received on or before this date.

ADDRESSES: In addition to the public meetings for comment (described below) you may submit comments by any of the following methods:

• Federal Rulemaking Web site: Go to http://www.regulations.gov and search for Docket ID NRC-2014-0149. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Allen Fetter, Office of New Reactors, telephone: 301-415-8556, email: Allen.Fetter@nrc.gov; U.S. Nuclear Regulatory Commission, Mail Stop T6-C32, Washington, DC 20555-0001.

SUPPLEMENTARY INFORMATION:

I. Obtaining Information and Submitting Comments

A. Obtaining Information

Please refer to Docket ID NRC-2014-0149 when contacting the NRC about the availability of information regarding this document. You may obtain publicly-available information related to this action by the following methods:

• Federal Rulemaking Web site: Go to http://www.regulations.gov and search for NRC Docket ID NRC-2014-0149.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft EIS and an accompanying reader's guide are available in ADAMS under accession number ML14219A304.

• NRC's PDR: You may examine and purchase copies of public documents at the NRC's PDR, Room O1-F21, One White Flint North, 11555 Rockville Pike, Rockville, Maryland 20852.

• Project Web site: In addition, the draft EIS can be accessed online at the PSEG ESP specific Web page at http://www.nrc.gov/reactors/new-reactors/esp/pseg.html. The Salem Free Public Library at 112 West Broadway, Salem, New Jersey, has also agreed to make the draft EIS available to the public.

B. Submitting Comments

Please include Docket ID NRC-2014-0149 in the subject line of your comment submission, in order to ensure that the NRC is able to make your comment submission available to the public in this docket.

The NRC cautions you not to include identifying or contact information in comment submissions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The application submitted by PSEG Power, LLC and PSEG Nuclear, LLC (PSEG) for an ESP was submitted by letter dated May 25, 2010, pursuant to Part 52 of Title 10 of the Code of Federal Regulations. A notice of receipt and availability of the application, which included the environmental report, was published in the Federal Register on June 18, 2010 (75 FR 34794). A notice of acceptance for docketing of the ESP application was published in the Federal Register on August 13, 2010 (75 FR 49539). A notice of intent to prepare a draft environmental impact statement (EIS) and to conduct the scoping process was published in the Federal Register on October 15, 2010 (75 FR 63521).

III. Further Information

Certain building activities proposed in association with the ESP require USACE authorization under Section 404 of the Clean Water Act and Section 10 of the Rivers and Harbor Act of 1899. Those activities are described in the draft EIS. PSEG is completing the submission of a Department of the Army permit application to the USACE for Federal authorization of those building activities. The Corps will publish a separate public notice detailing the work proposed for Corps review and authorization. When published, the Corps public notice will be accessible on the USACE, Philadelphia District, Web site at: http://www.nap.usace.army.mil/Missions/Regulatory/PublicNotices/tabid/4660/Year/2014/Default.aspx.

IV. Public Meetings for Comment

The NRC and USACE staff will hold two public meetings to present an overview of the draft EIS and to accept public comments on both the document and the associated Department of the Army permit application on Wednesday, October 1, 2014, in Davidow Hall at Salem County Community College, 460 Hollywood Avenue, Carneys Point, New Jersey. The first meeting will convene at 1:00 p.m. and will continue until 4:00 p.m., as necessary. The second meeting will convene at 7:00 p.m., with a repeat of the overview portions of the first meeting, and will continue until 10:00 p.m., as necessary. The meetings will be transcribed and will include: (1) A presentation of the contents of the draft EIS; and (2) the opportunity for interested government agencies, organizations, and individuals to provide comments on the draft report. For comments provided at the public meeting to be considered, they must be provided during the transcribed public meeting either orally or in writing. Additionally, the NRC and USACE staff will host informal discussions one hour before the start of each meeting, during which members of the public may meet and talk with staff members on an informal basis. No formal comments on the draft EIS will be accepted during the informal discussions. The draft EIS is a National Environmental Policy Act of 1969, as amended (NEPA) document that also supports the USACE review of the Department of the Army permit application from PSEG (application # CENAP-OP-R-2009-0157-45).

Persons may pre-register to attend or present oral comments at the meetings by contacting Dr. Allen Fetter, Environmental Project Manager, by telephone at 1-800-368-5642, extension 8556, or via email to Allen.Fetter@nrc.gov no later than September 24, 2014. Members of the public may also register to speak at the meetings within 15 minutes of the start of each meeting. Individual oral comments may be limited by the time available, depending on the number of persons who register. Members of the public who have not registered may also have an opportunity to speak if time permits. Dr. Fetter will need to be contacted no later than September 24, 2014, if special equipment or accommodations are needed to attend or present information at the public meetings, so that the NRC staff can determine whether the request can be accommodated.

Dated at Rockville, Maryland, this 18th day of August, 2014.
For the Nuclear Regulatory Commission.
Frank Akstulewicz,
Director, Division of New Reactor Licensing, Office of New Reactors.

[FR Doc. 2014-19983 Filed 8-21-14; 8:45 am]

BILLING CODE 7590-01-P